FEDERAL ELECTION COMMISSION

Sunshine Act Notices

Date and Time: Tuesday, September 20, 2005 at 10 a.m.

Place: 999 E Street, NW., Washington, DC.

Status: This Meeting Will Be Closed To The Public.

Items To Be Discussed: Compliance matters pursuant to 2 U.S.C. 437g.

Audits conducted pursuant to 2 U.S.C. 437g, 438(b), and Title 26, U.S.C. Matters concerning participation in civil actions or proceedings or arbitration. Internal personnel rules and procedures or matters affecting a particular employee.

(Note: The Starting Time For The Open Meeting On September 22, 2005 Has Been Changed To 2 p.m.)

Date and Time: Thursday, September 22, 2005, at 2 p.m.

Place: 999 E Street, NW., Washington, DC (Ninth Floor).

Status: This Meeting Will Be Open To The Public.

Items To Be Discussed: Correction and Approval of Minutes.

Advisory Opinion 2005-11: Friends of Duke Cunningham, by Kenneth Batson, Treasurer.

Advisory Opinion 2005-12: Representative Chaka Fattah, by counsel, Neil Reiff. Draft Notice of Proposed Rulemaking on Definitions of “Solicit” and “Direct.” (11 CFR 300.2(m) and (n)).

Routine Administrative Matters.

Person To Contact For Information: Mr. Robert Biersack, Press Officer, Telephone: (202) 694-1220.

Mary W. Dove,
Secretary of the Commission.

[FR Doc. 05-18409 Filed 9-13-05; 10:30 am]

BILLING CODE 6715-01-M